DEPARTMENT OF TRANSPORTATION

Maritime Administration

[Docket No. MARAD-2025-0268]

Request for Comments on the Renewal of a Previously Approved Collection: Merchant Marine Medals and Awards

AGENCY: Maritime Administration, DOT.

ACTION: Notice.

SUMMARY: The Maritime Administration (MARAD) invites public comments on our intention to request Office of Management and Budget (OMB) approval to renew an information collection in accordance with the Paperwork Reduction Act of 1995. The proposed collection OMB 2133-0506 (Merchant Marine Medals and Awards) is used to by MARAD personnel to process and verify requests for service awards. There are no changes to this collection since the last renewal. We are required to publish this notice in the Federal Register to obtain comments from the public and affected agencies.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Katrina McRae, 202-366-3198, Office of Sealift Support, Maritime Administration, U.S. Department of Transportation, 1200 New Jersey Avenue SE, Washington, DC 20590, Email: Katrina.mcrae@dot.gov

SUPPLEMENTARY INFORMATION:

Title: Merchant Marine Medals and Awards.

OMB Control Number: 2133-0506.

Type of Request: Extension without change of a previously approved collection.

Abstract: This collection of information provides a method of awarding merchant marine medals and decorations to masters, officers, and crew members of U.S. ships, in recognition of their service in areas of danger during the operations by the Armed Forces of the United States in World War II, Korea, Vietnam, and Operation Desert Storm.

Respondents: Masters, officers, and crew members of U.S. ships.

Affected Public: Individuals or households.

Estimated Number of Respondents: 550.

Estimated Number of Responses: 550.

Estimated Hours per Response: 1.

Annual Estimated Total Annual Burden Hours: 550.

Frequency of Response: Once Annually.

A 60-day Federal Register Notice soliciting comments on this information collection was published on May 5, 2025 (90 FR 19085).

(Authority: The Paperwork Reduction Act of 1995; 44 U.S.C. Chapter 35, as amended; and 49 CFR 1.49.)

By Order of the Maritime Administration.
T. Mitchell Hudson, Jr.
Secretary, Maritime Administration.

[FR Doc. 2025-14116 Filed 7-25-25; 8:45 am]

BILLING CODE 4910-81-P